DEPARTMENT OF THE INTERIOR

National Park Service

Notice of Availability of Draft Environmental Impact Statement for the Lackawanna Valley National Heritage Area Management Plan

AGENCY: National Park Service, Interior.

ACTION: Availability of draft environmental impact statement.

SUMMARY: Pursuant to section 102(2)(C) of the National Environmental Policy Act of 1969, the National Park Service (NPS) announces the availability of a Draft Environmental Impact Statement (DEIS) for Lackawanna Valley National Heritage Area Management Plan. The Lackawanna Valley National Heritage Area Act of 2000 (Act) requires the Lackawanna Heritage Valley Authority, with guidance from the NPS, to prepare a Management Plan for the Lackawanna Heritage Valley. The Management Plan is expected to: (A) Take into consideration State, county, and local plans; (B) involve residents, public agencies, and private organizations working in the Heritage Area; (C) include actions to be undertaken by units of government and private organizations to protect the resources of the Heritage Area and specify the existing and potential sources of funding available to protect, manage, and develop the Heritage Area; (D) develop an inventory of the resources contained in the Heritage Area, including a list of any property in the Heritage Area that is related to the purposes of the Heritage Area and that should be preserved, restored, managed, developed, or maintained because of its historical, cultural, natural, recreational, or scenic significance; (E) recommend policies for resource management that considers and details application of appropriate land and water management techniques, including the development of intergovernmental cooperative agreements to protect the historical, cultural, natural, and recreational resources of the Heritage Area in a manner that is consistent with the support of appropriate and compatible economic viability; (F) establish a program for implementation of the management plan by the management entity, that includes: (i) Plans for restoration and construction, and (ii) specific commitments of the partners for the first 5 years of operation; (G) perform an analysis of ways in which local, State, and Federal programs may best be coordinated to protect the heritage resources; and (H) develop an interpretation plan for the Heritage Area.

The study area, designated as the Lackawanna Valley National Heritage Area, includes all or parts of the counties of: Lackawanna, Luzerne, Wayne, and Susquehanna County, in northeastern Pennsylvania as associated with the Lackawanna River corridor.

The NPS maintains one park site within the region: Steamtown National Historic Site in Scranton. Otherwise the majority of land is non-federal and the NPS assumes a management role only within its park units. Instead, conservation, interpretation and other activities are managed by partnerships among Federal, State, and local governments and private nonprofit organizations. The Lackawanna Heritage Valley Authority manages the national heritage area. The NPS has been authorized by Congress to provide technical and financial assistance for a limited period. The Act prohibits the Secretary of the Interior from providing any grant or other assistance pursuant to the Act after September 30, 2012.

DATES: The DEIS will remain on Public Review for sixty days from the publication of the notice in the Federal Register by the Environmental Protection Agency.

FOR FURTHER INFORMATION CONTACT: Peter Samuel, Project Leader, Philadelphia Support Office, National Park Service, 200 Chestnut Street, Philadelphia, PA 19106, peter_samuel@nps.gov, 215-597-1848.

If you correspond using the internet, please include your name and return address in your e-mail message. Our practice is to make comments, including names and home addresses of respondents, available for public review. Individual respondents may request that we withhold their home address from the record, which we will honor to the extent allowable by law. If you wish us to withhold your name and/or address, you must state this prominently at the beginning of your comment. However, we will not consider anonymous comments. We will make all submissions from organizations or businesses, and from individuals identifying themselves as representatives or officials of organizations or businesses, available for public inspection in their entirety.

Dated: January 14, 2004.
Bernard C. Fagan,
Deputy Chief, NPS Office of Policy and Regulations.

[FR Doc. 04-1282 Filed 1-21-04; 8:45 am]

BILLING CODE 4310-25-M